ENVIRONMENTAL PROTECTION AGENCY

[EPA-HQ-OPPT-2016-0411; FRL-9950-21]

Mercury Compounds; Prohibition of Export

AGENCY: Environmental Protection Agency (EPA).

ACTION: Notice.

SUMMARY: EPA was directed by Congress to publish in the Federal Register a list of mercury compounds that are prohibited from export, not later than 90 days after the date of enactment of the Frank R. Lautenberg Chemical Safety for the 21st Century Act (the Act), which amended the Toxic Substances Control Act (TSCA). The Act was enacted on June 22, 2016. Effective January 1, 2020, the statute prohibits export of: Mercury (I) chloride or calomel; mercury (II) oxide; mercury (II) sulfate; mercury (II) nitrate; and cinnabar or mercury sulphide, unless those mercury compounds are exported to member countries of the Organization for Economic Co-operation and Development for environmentally sound disposal, on the condition that no mercury or mercury compounds so exported are to be recovered, recycled, or reclaimed for use, or directly reused, after such export. EPA is not soliciting comments on this notice.

FOR FURTHER INFORMATION CONTACT: For technical information contact: Sue Slotnick, National Program Chemicals Division, Office of Pollution Prevention and Toxics, Environmental Protection Agency, 1200 Pennsylvania Ave. NW., Washington, DC 20460-0001; telephone number: (202) 566-1973; email address: slotnick.sue@epa.gov.

For general information contact: The TSCA-Hotline, ABVI-Goodwill, 422 South Clinton Ave., Rochester, NY 14620; telephone number: (202) 554-1404; email address: TSCA-Hotline@epa.gov.

SUPPLEMENTARY INFORMATION:

I. General Information

A. Does this action apply to me?

You may be potentially affected by this action if you manufacture or export any of the five listed mercury compounds. The following list of North American Industrial Classification System (NAICS) codes is not intended to be exhaustive, but rather provides a guide to help readers determine whether this document applies to them. Potentially affected entities may include:

• Other Basic Inorganic Chemical Manufacturing (NAICS code 325180), e.g., manufacturers of basic inorganic chemicals (except industrial gases and synthetic dyes and pigments);

• All Other Miscellaneous Chemical Product and Preparation Manufacturing (NAICS code 325998), e.g., manufacturers of chemical products (except basic chemicals, resins, synthetic rubber; cellulosic and noncellulosic fiber and filaments; pesticides, fertilizers, and other agricultural chemicals; pharmaceuticals and medicines; paints, coatings and adhesives; soap, cleaning compounds, and toilet preparations; printing inks; explosives; custom compounding of purchased resins; and photographic films, papers, plates, and chemicals);

• Analytical Laboratory Instrument Manufacturing (NAICS code 334516), e.g., manufacturers of instruments and instrumentation systems for laboratory analysis of the chemical or physical composition or concentration of samples of solid, fluid, gaseous, or composite material; or

• Other Chemical and Allied Products Merchant Wholesalers (NAICS code 424690), e.g., merchant wholesale distributors of chemicals and allied products (except agricultural and medicinal chemicals, paints and varnishes, fireworks, and plastics materials and basic forms and shapes).

II. What action is the Agency taking?

As directed in TSCA section 12(c)(7)(B), 15 U.S.C. 2611(c)(7)(B), EPA is publishing a list of mercury compounds prohibited from export under TSCA section 12(c), as amended. EPA must publish this list not later than 90 days after June 22, 2016 (15 U.S.C. 2611(c)(7)(B)). Effective January 1, 2020, the statute prohibits export of: Mercury (I) chloride or calomel; mercury (II) oxide; mercury (II) sulfate; mercury (II) nitrate; and cinnabar or mercury sulphide (15 U.S.C. 2611(c)(7)(A)(i)-(v)). The respective Chemical Abstracts Service Registry Numbers (CASRN) associated with the enumerated chemical substances are: 10112-91-1, 21908-53-2, 7783-35-9, 10045-94-0, and 1344-48-5. The statute also provides that EPA, on determining that exporting any additional mercury compound for the purpose of regenerating elemental mercury is technically feasible, may add by rule such mercury compound to the published list (15 U.S.C. 2611(c)(7)(A)(vi)). In addition, any person may petition EPA to add a mercury compound to this published list (15 U.S.C. 2611(c)(7)(C)). The statute provides an exception to the export prohibition for export of listed mercury compounds to member countries of the Organization for Economic Co-operation and Development for environmentally sound disposal, on the condition that no mercury or mercury compounds so exported are to be recovered, recycled, or reclaimed for use, or directly reused, after such export (15 U.S.C. 2611(c)(7)(D)). EPA is not soliciting comments on this notice.

Authority: 15 U.S.C. 2611(c)

Dated: August 12, 2016.
Jim Jones,
Assistant Administrator, Office of Chemical Safety and Pollution Prevention.

[FR Doc. 2016-20534 Filed 8-25-16; 8:45 am]

BILLING CODE 6560-50-P